DEPARTMENT OF ENERGY

10 CFR Part 430

[EERE-2019-BT-STD-0022]

RIN 1904-AE76

Energy Conservation Program: Energy Conservation Standards for General Service Incandescent Lamps; Correction

AGENCY: Office of Energy Efficiency and Renewable Energy, Department of Energy.

ACTION: Notice of proposed determination and request for comment; correction.

SUMMARY: On September 5, 2019, the U.S. Department of Energy (“DOE”) published a notice of proposed determination (“NOPD”) initially determining that energy conservation standards for general service incandescent lamps (“GSILs”) do not need to be amended (hereafter the “September 2019 NOPD”). This correction addresses typographical errors that appear in the September 2019 NOPD. This document corrects values listed in Tables V.4, V.7, V.9, and V.10, and corrects duplicative numbering of tables and reference to those tables. Neither the errors nor the corrections in this document affect the substance of the rulemaking or any initial conclusions reached in support of the NOPD.

DATES: This document is published on September 24, 2019.

FOR FURTHER INFORMATION CONTACT:

Ms. Lucy deButts, U.S. Department of Energy, Office of Energy Efficiency and Renewable Energy, Building Technologies Office, EE-5B, 1000 Independence Avenue SW, Washington, DC 20585-0121. Email: ApplianceStandardsQuestions@ee.doe.gov.

Ms. Celia Sher, U.S. Department of Energy, Office of the General Counsel, GC-33, 1000 Independence Avenue SW, Washington, DC 20585-0121. Telephone: (202) 287-6122. Email: Celia.Sher@hq.doe.gov.

SUPPLEMENTARY INFORMATION: In support of the September 2019 NOPD and the proposed determination that energy conservation standards for GSILs do not need to be amended, DOE conducted a shipments analysis, a life-cycle cost (“LCC”) analysis, a national impact analysis (“NIA”), and a manufacturer impact analysis (“MIA”). DOE displayed certain results of the LCC analysis in Table V.4, certain results of the NIA in Table V.7, and certain results of the MIA in Tables V.9 and V.10. There are typographical errors in these tables and the discussion of these tables. All these corrections result in minor differences to the magnitude of the values changed and do not impact the proposed determination presented in the document. For the shipments analysis correction, the value changes by 2.2 percent; for the LCC analysis correction, the value changes by 0.13 percent; for the NIA corrections, the values change between 0.04 and 0.05 percent; and for the MIA corrections, the values change between 5 and 6 percent. The NOPD also assigned duplicative table numbers to two sets of tables, which may result in confusion when referencing the tables. This document identifies and corrects these typographical errors.

Correction

In the Federal Register published on September 5, 2019 (84 FR 46830), in FR Doc. 2019-18941, the following corrections are made:

1. On page 46848, in the 1st column, correct the 4th sentence in the 1st paragraph to read:

“In the scenario with substitution, fitting the NEMA data to the widely used Bass model for the market adoption of new technology ³⁵ suggests that, even in the absence of Federal regulation, LED lamps will have captured a significant majority of the GSL market by 2023 (79.5 percent of the residential market and 94.2 percent of the commercial market).”;

2. On page 46849, replace the table heading “Table IV.12—Summary of Inputs and Methods for the National Impact Analysis” with “Table IV.13—Summary of Inputs and Methods for the National Impact Analysis”;

3. On page 46849, in the 3rd column, correct the 1st sentence in the 2nd paragraph to read:

“Table IV.13 summarizes the inputs and methods DOE used for the NIA analysis for the NOPD.”;

4. On page 46853, in Table V.4—Average Annualized LCC Savings Results by Trial Standard Level-LCC with Substitution-Continued, replace the value “0.43” in the column headed “Percent of consumers that experience net cost” with “0.3”;

5. On page 46853, replace the table heading “Table V.4—Cumulative National Energy Savings for GSILs and GSIL alternatives; 30 Years of Shipments (2023-2052)” with “Table V.5—Cumulative National Energy Savings for GSILs and GSIL alternatives; 30 Years of Shipments (2023-2052)”;

6. On page 46853, in the 3rd column, correct the 3rd sentence in the 1st paragraph to read:

“Table V.5 presents DOE's projections of the NES for each TSL considered for GSILs, as well as considered GSIL alternatives.”;

7. On page 46853, in the 3rd column, correct the 5th sentence in the 1st paragraph to read:

“In addition to GSIL energy savings, Table V.5 illustrates the increased energy consumption of consumers who transition to out-of-scope lamps, including CFL, LED, and incandescent alternatives, because more consumers purchase these lamps at TSL 1 relative to the no-standards case.”;

8. On page 46854, in the 3rd column, correct the 1st sentence in the 1st paragraph to read:

“The NES sensitivity analysis results based on a 9-year analytical period are presented in Table V.6.”;

9. On page 46854, in Table V.7—Cumulative Net Present Value of Quantifiable Consumer Benefits for GSILs and GSIL Alternatives; 30 Years of Shipments (2023-2052), replace the values “5.436” and “4.173” in the column headed “TSL 1” with “5.434” and “4.171” respectively;

10. On page 46855, in the 3rd column, correct the 1st sentence in the 3rd paragraph to read:

“Table V.9 and Table V.10 present the results of the industry cash flow analysis for GSIL manufacturers under the preservation of gross margin and the technology specific markup scenarios.”;

11. On page 46855, in Table V.9—Manufacturer Impact Analysis for GSILs—Preservation of Gross Margin Markup Scenario, replace the values “(5.0)” and “(1.6)” in the column headed “TSL 1” with “(5.3)” and “(1.7)” respectively;

12. On page 46856, in Table V.10—Manufacturer Impact Analysis for GSILs—Technology Specific Markup Scenario, replace the value “(3.7)” in the column headed “TSL 1” with “(3.9)”;

13. On page 46856 in the 1st column, correct the 1st sentence of the 1st paragraph to read:

“At TSL 1, DOE estimates that impacts on INPV will range from −$5.3 million to −$3.9 million, or a change in INPV of −1.7 to −1.2 percent.”;

14. On page 46858, in the 1st column, correct the 1st sentence in the 5th paragraph to read:

“Under the consumer choice analysis, the NPV of consumer benefits at TSL 1 would be $2.241 billion using a discount rate of 7 percent, and $4.171 billion using a discount rate of 3 percent.”; and

15. On page 46858 in the 2nd column, correct the 4th sentence of the 1st paragraph to read:

“At TSL 1, DOE estimates that INPV will decrease between $5.3 million to $3.9 million, or a decrease in INPV of 1.7 to 1.2 percent.”

Procedural Issues and Regulatory Review

DOE has concluded that the initial determinations made pursuant to the various procedural requirements applicable to the September 2019 NOPD remain unchanged for this NOPD technical correction. These initial determinations are set forth in the September 2019 NOPD. 84 FR 46830, 46858-46860.

Signed in Washington, DC, on September 10, 2019.
Alexander N. Fitzsimmons,
Acting Deputy Assistant Secretary For Energy Efficiency, Energy Efficiency and Renewable Energy.

[FR Doc. 2019-20399 Filed 9-23-19; 8:45 am]

BILLING CODE 6450-01-P